DEPARTMENT OF TRANSPORTATION

Pipeline and Hazardous Materials Safety Administration

[Docket No PHMSA-2013-0061]

Pipeline Safety: Information Collection Activities

AGENCY: Pipeline and Hazardous Materials Safety Administration (PHMSA), DOT.

ACTION: Notice and request for comments.

SUMMARY: In compliance with the Paperwork Reduction Act of 1995 (44 U.S.C. 3501 et seq.), this notice announces that the Information Collection Request abstracted below is being forwarded to the Office of Management and Budget (OMB) for review and comments. A Federal Register notice with a 60-day comment period soliciting comments on the following information collection was published on April 23, 2013, (78 FR 23972).

PHMSA received one comment in response to that notice. PHMSA is publishing this notice to respond to the comment, provide the public with an additional 30 days to comment on the proposed revisions to the forms and the instructions, and announce that the revised information collection will be submitted to OMB for approval.

DATES: Comments must be submitted on or before October 11, 2013.

FOR FURTHER INFORMATION CONTACT: Blaine Keener by telephone at 202-366-0970, by fax at 202-366-4566, or by email at blaine.keener@dot.gov.

ADDRESSES: You may submit comments identified by the docket number PHMSA-2013-0061 by any of the following methods:

• Fax: 1-202-395-5806.

• Mail: Office of Information and Regulatory Affairs (OIRA), Records Management Center, Room 10102 NEOB, 725 17th Street NW., Washington, DC 20503, ATTN: Desk Officer for the U.S. Department of Transportation/PHMSA.

• Email: OIRA, OMB, at the following email address: OIRA_Submission@omb.eop.gov.

Requests for a copy of the Information Collection should be directed to Angela Dow by telephone at 202-366-1246, by fax at 202-366-4566, by email at Angela.Dow@dot.gov, or by mail at U.S. Department of Transportation, PHMSA, 1200 New Jersey Avenue SE., PHP-30, Washington, DC 20590-0001.

SUPPLEMENTARY INFORMATION:

Section 1320.8(d), Title 5, Code of Federal Regulations, requires PHMSA to provide interested members of the public and affected agencies an opportunity to comment on information collection and recordkeeping requests. This notice identifies a revised information collection request that PHMSA will be submitting to OMB for approval. The information collected from hazardous liquid operators is an important tool for identifying safety trends in the hazardous liquid pipeline industry.

In a Federal Register Notice on April 23, 2013, with a 60-day comment period, PHMSA published its proposed changes to the hazardous liquid operators' accident report and its proposal to include the incorporation by reference of American Petroleum Institute (API) API 1130 (the industry standard on leak detection) which provides information collection and maintenance guidance on many factors such as measurement capabilities, communications reliability, pipeline operating condition, and product type. During this response period, PHMSA received one joint comment from API and the Association of Oil Pipelines (AOPL).

This 30-day notice responds to the comments, which may be found at http://www.regulations.gov, at docket number PHMSA-2013-0061.

The following is a summary of the joint comments to PHMSA regarding the proposed changes to Form PHMSA F 7000-1 ACCIDENT REPORT—HAZARDOUS LIQUID PIPELINE SYSTEMS.

A. Instructions for Volume Spilled (Part A9) and Volume Recovered (Part A11)

Comment: API/AOPL opposes PHMSA's proposal to include all product exiting the pipeline system in both the Volume Spilled and Volume Recovered categories. API/AOPL requests that volume exiting a system during a controlled event not be reported.

PHMSA Response: PHMSA does not consider any product exiting the system at the failure location to be done in a controlled manner. We are proposing to revise the instructions to exempt product removed from the system at locations remote from the failure site from both the Volume Spilled and Volume Recovered categories. However, we continue to propose that all product exiting the system at the failure site, regardless of the degree of control attainable by the operator, be reported in both Volume Spilled and Volume Recovered. Limiting the Volume Spilled to product exiting the system at the failure site provides the most accurate characterization of the consequences of the accident. The difference between Volume Spilled and Volume Recovered provides the most accurate characterization of the environmental consequences of the accident. This change does not penalize operators for withdrawing product in a controlled manner at locations remote from the failure site and provides incentive to move product away from the failure site whenever possible.

Comment: API/AOPL recommends “facility” be replaced with “system” in the instructions for Volume Spilled and Volume Recovered.

PHMSA Response: PHMSA has implemented this recommendation.

B. Instructions for Time Sequence (Part A18)

Comment: API/AOPL opposes the proposed change to the instructions regarding the use of the phrase “when the operator became aware of the accident” to describe the earliest date and time an operator identifies a pipeline failure. API/AOPL states that “awareness of the accident” is open to wide interpretation and suggests that “awareness” be replaced with “discovery”, which is used in other PHMSA regulations. API/AOPL notes that PHMSA's regulations for safety-related conditions characterize “discovery” as “when an operator's representative has adequate information from which to conclude the probable existence.”

PHMSA Response: We do not agree that the proposal to use “adequate” and “probable” in the definition of “discovery” provides additional clarity. Part A18 of the form simply requires the operator to report the earliest date/time the operator identified the failure and the date/time the operator arrived on site. If PHMSA were to implement API/AOPL's recommendation, these date/times would be identical and PHMSA would gain no knowledge of operator response time.

C. Instructions for National Response Center Report Number

Comment: API/AOPL requests that PHMSA delay the proposal to collect multiple National Response Center (NRC) report numbers until the NRC implements requirements from the Pipeline Safety, Regulatory Certainty, and Job Creation Act of 2011 (“Act”).

PHMSA Response: PHMSA does not agree that it is necessary to wait for actions the NRC may take in response to the “Act.”

Comment: API/AOPL suggests a new option is needed when a NRC Report was not submitted and proposes that “NRC notification not required at time of release” be added as an option.

PHMSA Response: PHMSA has already proposed “NRC Notification Not Required” as an option.

D. Revise instructions for Accident Preparer and Authorizer

Comment: API/AOPL recommends changes to both the instructions and form to make clear that the information will be available to the public.

PHMSA Response: All data submitted by operators to PHMSA could potentially be made publicly available. We have not adopted this recommendation.

The following information is provided for each information collection: (1) Abstract for the affected accident report form; (2) title of the information collection; (3) OMB control number; (4) affected accident report form; (5) description of affected public; (6) estimate of total accident reporting and recordkeeping burden; and (7) frequency of collection. PHMSA will request a three-year term of approval for each information collection activity and, when approved by OMB, publish notice of the approval in the Federal Register.

PHMSA requests comments on the following information collection:

Title: Transportation of Hazardous Liquids by Pipeline: Recordkeeping and Accident Reporting.

OMB Control Number: 2137-0047.

Current Expiration Date: 1/31/2014.

Type of Request: Revision.

Abstract: This information collection covers recordkeeping and accident reporting by hazardous liquid pipeline operators who are subject to 49 CFR Part 195 as well as the incorporation by reference of the industry standard on leak detection. PHMSA is proposing to revise the Hazardous Liquid Accident Report to collect more data on small spills and to revise the instructions for completing the form. Section 195.50 specifies the definition of an “accident” and the reporting criteria for submitting a Hazardous Liquid Accident Report (Form PHMSA F7000-1) is detailed in § 195.54.

Section 195.444 requires operators of single-phase hazardous liquid pipeline facilities that use Computational Pipeline Monitoring (CPM) leak detection systems to comply with the standards set out in American Petroleum Institute (API) publication API 1130. API 1130 provides information collection and maintenance guidance on many factors such as measurement capabilities, communications reliability, pipeline operating condition, and product type. Compliance with API 1130, including its recordkeeping requirements, supports pipeline safety by ensuring the proper functioning of CPM leak detection systems.

Affected Public: Hazardous liquid pipeline operators.

Accident Reporting and Recordkeeping Burden:

Annual Responses: 897.

Annual Burden Hours: 52,429.

Frequency of collection: On Occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on September 5, 2013.
Jeffrey D. Wiese,
Associate Administrator for Pipeline Safety.

[FR Doc. 2013-22049 Filed 9-10-13; 8:45 am]

BILLING CODE 4910-60-P